FEDERAL MARITIME COMMISSION

[Docket No. 05-07]

U.S. Lines, Limited v. Value Imports, Inc.; Notice of Filing of Complaint and Assignment

Notice is given that a complaint has been filed with the Federal Maritime Commission (“Commission”) by U.S. Lines, Limited (“Complainant”) against Value Imports, Inc. (“Respondent”). Complainant is an ocean common carrier under the Shipping Act of 1984, as amended (“the Act”). Respondent, an importer, was the beneficial owner of cargo discharged at Total Terminals Inc. (“TTI”) a marine terminal operator at the Port of Long Beach, California. Complainant alleges that demurrage accrued on the cargo pursuant to its tariff resulting in a possessory maritime lien, permitting it to hold the cargo until all charges, including demurrage, were paid. Complainant contends that Respondent entered bank information and payment instructions at TTI's internet Web site and that TTI, as agent for Complainant, accepted the payment information and released the cargo to Respondent. Complainant asserts the bank designated by Respondent refused to pay because of insufficient funds on deposit. Complainant further contends that these alleged activities violate section 10(a)(1) of the Act in that Respondent knowingly and willfully obtained ocean transportation for property at less than the rates or charges that would otherwise be applicable. Complainant prays that Respondent be required to answer the charges herein; that after due hearing, an order be made commanding Respondent to cease and desist from the aforesaid violation of the Act; to pay to Complainant by way of reparations for the unlawful conduct described the sum of $75,140 with interest and attorney's fees, and any other sums and further orders as the Commission may determine to be proper.

This proceeding has been assigned to the Office of Administrative Law Judges. Hearing in this matter, if any is held, shall commence within the time limitations prescribed in 46 CFR 502.61, and only after consideration has been given by the parties and the presiding officer to the use of alternative forms of dispute resolution. The hearing shall include oral testimony and cross-examination in the discretion of the presiding officer only upon proper showing that there are genuine issues of material fact that cannot be resolved on the basis of sworn statements, affidavits, depositions, or other documents or that the nature of the matter in issue is such that an oral hearing and cross-examination are necessary for the development of an adequate record. Pursuant to the further terms of 46 CFR 502.61, the initial decision of the presiding officer in this proceeding shall be issued by October 6, 2006, and the final decision of the Commission shall be issued by February 8, 2007.

Bryant L. VanBrakle,
Secretary.

[FR Doc. 05-20481 Filed 10-12-05; 8:45 am]

BILLING CODE 6730-01-P